DEPARTMENT OF TRANSPORTATION

Office of the Secretary

Aviation Proceedings, Agreements Filed the Week Ending April 30, 2009

The following Agreements were filed with the Department of Transportation under the provisions of 49 U.S.C. 412 and 414. Answers may be filed within 21 days after the filing of the application.

Docket Number: DOT-OST-2009-0102.

Date Filed: April 29, 2009.

Parties: Members of the International Air Transport Association.

Subject: Mail Vote 599—Resolution 010c TC3 Special Passenger Amending Resolution between Japan, Korea (Rep. of) and China (excluding Hong Kong SAR and Macao SAR), and between Japan and Korea (Rep. of) (Memo 1293).

Intended effective date: 15 May 2009.

Renee V. Wright,
Program Manager, Docket Operations, Federal Register Liaison.

[FR Doc. E9-11269 Filed 5-13-09; 8:45 am]

BILLING CODE 4910-9X-P